DEPARTMENT OF JUSTICE

[OMB Number 1123-0011]

Agency Information Collection Activities; Proposed eCollection eComments Requested; Revision of a Previously Approved Collection; Equitable Sharing Agreement and Certification (ESAC) Report

AGENCY: Criminal Division (MLARS), Department of Justice.

ACTION: 60-Day notice.

SUMMARY: The Department of Justice (DOJ), Money Laundering and Asset Recovery Section (MLARS), will be submitting the following information collection request to the Office of Management and Budget (OMB) for review and approval in accordance with the Paperwork Reduction Act of 1995.

DATES: Comments are encouraged and will be accepted for 60 days until August 5, 2024

FOR FURTHER INFORMATION CONTACT: If you have additional comments especially on the estimated public burden or associated response time, suggestions, or need a copy of the proposed information collection instrument with instructions or additional information, please contact Teresa Franklin, Criminal Division (MLARS), 1400 New York Avenue NW, Washington, DC 20005, (202) 304-9201, teresa.franklin2@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Attorney General is required by statute to “assure that any property transferred to a State or local law enforcement agency . . . will serve to encourage further cooperation between the recipient State or local agency and Federal law enforcement agencies.” 21 U.S.C. 881(e)(3). MLARS ensures such cooperation by requiring that all such “equitably shared” funds be used only for law enforcement purposes and not be distributed to other governmental agencies by the recipient law enforcement agencies. By requiring that law enforcement agencies that participate in the Equitable Sharing Program (Program) file an Equitable Sharing Agreement and Certification (ESAC), MLARS can readily ensure compliance with its statutory obligations.

The ESAC requires information regarding the receipt and expenditure of Program funds from the participating agency. Accordingly, it seeks information that is exclusively in the hands of the participating agency and governing jurisdiction. This collection request is classified as a revision due to updated requirements incorporated in a revised version of the Guide to Equitable Sharing for State, Local, and Tribal Law Enforcement Agencies, in addition to format changes and deleting and relabeling some fields.

Overview of This Information Collection

1. Type of Information Collection: Revision of a previously approved collection.

2. The Title of the Form/Collection: Equitable Sharing Agreement and Certification.

3. The agency form number, if any, and the applicable component of the Department sponsoring the collection: There is not an agency form number. The collection instrument is the Equitable Sharing Agreement and Certification. The applicable component within the Department of Justice is the Money Laundering and Asset Recovery Section (“MLARS”), in the Criminal Division.

4. Affected public who will be asked or required to respond, as well as the obligation to respond: Affected Public State, local and tribal law enforcement agencies and governing jurisdictions participating in the Program.

5. An estimate of the total number of respondents and the amount of time estimated for an average respondent to respond: An estimated 6,000 respondents will respond to this collection. The time per response is approximately .5 hours.

6. An estimate of the total annual burden (in hours) associated with the collection: The total annual burden hours for this collection is approximately 3,000 hours.

7. An estimate of the total annual cost burden associated with the collection, if applicable:

Total Burden Hours
Activity | Number of respondents | Frequency | Total annual responses | Time per response (hours) | Total annual burden (hours)
Equitable Sharing Agreement and Certification | 6,000 | 1/annually | 6,000 | .5 | 3,000
Unduplicated Totals | 6,000 |  | 6,000 |  | 3,000

If additional information is required contact: Darwin Arceo, Department Clearance Officer, United States Department of Justice, Justice Management Division, Policy and Planning Staff, Two Constitution Square, 145 N Street NE, 4W-218, Washington, DC.

Dated: May 30, 2024.
Darwin Arceo,
Department Clearance Officer for PRA, U.S. Department of Justice.

[FR Doc. 2024-12250 Filed 6-4-24; 8:45 am]

BILLING CODE 4410-14-P